DEPARTMENT OF JUSTICE

Notice of Lodging of Proposed Consent Decree Under the Safe Drinking Water Act

On April 11, 2018, the Department of Justice lodged a proposed consent decree with the United States District Court for the Northern District of New York in a lawsuit entitled United States and the State of New York v. Town of Ticonderoga, New York, Civil Action No. 8:18-cv-442-GLS-CFH.

In that case the United States seeks relief for the Town's violations of the Long Term Enhanced Treatment Rule promulgated by the Environmental Protection Agency under the Safe Drinking Water Act. The complaint also contains claims alleged by the State of New York on behalf of the New York Department of Health under the State's laws and regulations. To resolve the claims alleged in the complaint, the Town of Ticonderoga agrees to perform injunctive relief that includes major long-term compliance projects plus interim measures; pay a civil penalty of $50,000 to be divided evenly between the United States and the State of New York; and perform two supplemental environmental projects.

The publication of this notice opens a period for public comment on the proposed consent decree. Comments should be addressed to the Assistant Attorney General, Environment and Natural Resources Division, and refer to United States v. Town of Ticonderoga, New York, Civil Action No. 8:18-cv-442-GLS-CFH, D.J. Ref. 90-5-1-1-11348. All comments must be submitted no later than 30 days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ-ENRD, P.O. Box 7611, Washington, DC 20044-7611.

Please enclose a check or money order for $7.75 (25 cents per page) payable to the United States Treasury.

Robert Maher,
Assistant Section Chief, Environmental Enforcement Section, Environment and Natural Resources Division.

[FR Doc. 2018-08063 Filed 4-17-18; 8:45 am]

BILLING CODE 4410-15-P